FEDERAL COMMUNICATIONS COMMISSION

[Report No. 2604]

Petition for Reconsideration of Action in Rulemaking Proceeding

April 9, 2003.

Petition for Reconsideration has been filed in the Commission's rulemaking proceeding listed in this Public Notice and published pursuant to 47 CFR section 1.429(e). The full text of this document is available for viewing and copying in Room CY-A257, 445 12th Street, SW., Washington, DC or may be purchased from the Commission's copy contractor, Qualex International (202) 863-2893. Oppositions to this petition must be filed by April 30, 2003. See Section 1.4(b)(1) of the Commission's rules (47 CFR 1.4(b)(1)). Replies to an opposition must be filed within 10 days after the time for filing oppositions has expired.

Subject: In the Matter of the Telecommunications Relay Services and the Americans with Disabilities Act of 1990 (CC Docket No. 90-571).

Number of Petitions Filed: 1.

William F. Caton,
Deputy Secretary.

[FR Doc. 03-9118 Filed 4-14-03; 8:45 am]

BILLING CODE 6712-01-M